DEPARTMENT OF TRANSPORTATION

Federal Aviation Administration

14 CFR Part 39

[Docket No. FAA-2005-23249; Directorate Identifier 2005-NM-219-AD]

RIN 2120-AA64

Airworthiness Directives; Gulfstream Model GV-SP Series Airplanes

AGENCY: Federal Aviation Administration (FAA), Department of Transportation (DOT).

ACTION: Proposed rule; withdrawal.

SUMMARY: The FAA withdraws a notice of proposed rulemaking (NPRM) that proposed a new airworthiness directive (AD) for certain Gulfstream Model GV-SP series airplanes. The proposed AD would have required an inspection to determine the serial number of the anti-skid control unit (ACU) in the right electronics equipment rack, and replacement of the ACU with a new or serviceable ACU if necessary. Since the proposed AD was issued, we have received new data that indicate the identified unsafe condition has been corrected on all airplanes that would have been affected by the NPRM, and on all ACUs in the affected range of serial numbers. Accordingly, the proposed AD is withdrawn.

ADDRESSES: You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2005-23249; the directorate identifier for this docket is 2005-NM-219-AD.

FOR FURTHER INFORMATION CONTACT: Darby Mirocha, Aerospace Engineer, Systems and Equipment Branch, ACE-119A, FAA, Atlanta Aircraft Certification Office, One Crown Center, 1895 Phoenix Boulevard, suite 450, Atlanta, Georgia 30349; telephone (770) 703-6095; fax (770) 703-6097.

SUPPLEMENTARY INFORMATION:

Discussion

We proposed to amend part 39 of the Federal Aviation Regulations (14 CFR part 39) with a notice of proposed rulemaking (NPRM) for a new AD for certain Gulfstream Model GV-SP series airplanes. That NPRM was published in the Federal Register on December 9, 2005 (70 FR 73173). The NPRM would have required an inspection to determine the serial number of the anti-skid control unit (ACU) in the right electronics equipment rack, and replacement of the ACU with a new or serviceable ACU if necessary. The NPRM resulted from a report that an airplane temporarily lost normal braking function during landing rollout on a pre-delivery flight. The proposed actions were intended to prevent loss of normal braking function, which could result in a runway overrun that could cause injury to flightcrew or passengers or damage to the airplane.

Actions Since NPRM Was Issued

Since we issued the NPRM, Gulfstream Aerospace has provided data that indicate the identified unsafe condition has been corrected on all airplanes that would have been affected by the NPRM, and on all ACUs in the affected range of serial numbers (S/Ns). Gulfstream Aerospace therefore requests that we withdraw the NPRM. We agree with the commenter.

Request To Incorporate by Reference (IBR) the Service Information

The Modification and Replacement Parts Association (MARPA) requests that we either publish the relevant service information with the AD, or IBR it with the NPRM. If we IBR rather than publish the relevant service information, then MARPA further requests that we identify the S/Ns of the defective ACUs in the AD. As justification, MARPA states that parts purveyors and maintenance facilities cannot identify the defective parts unless we specify them in the AD because they do not possess the proprietary service information referenced in the NPRM. For the same reason, MARPA states that those in the alternative parts industry (operating under 14 CFR 21.303) also cannot identify any parts manufacturer approval (PMA) parts equivalent to the defective ACUs. MARPA asserts that there are many ACUs in its PMA database that also may be affected by unsafe condition identified in the NPRM.

MARPA also comments on our practice of IBR and referencing propriety service information. MARPA asserts that if we IBR proprietary service information with a public document, such as an AD, then that service information loses its protected status and becomes a public document. Also, MARPA claims that IBR requires we provide a copy of the relevant service information to the Director of the Federal Register before the NPRM can be published. MARPA further states that: “Merely referencing a service document without incorporation thus becomes an “end run” around the publication requirement while still requiring possession of a proprietary document in order to comply with the law.” MARPA believes our practice of IBR is flawed legally where it is impossible to comply with the requirements of an AD without first obtaining the necessary propriety service information.

Although we acknowledge MARPA's comments, we do not agree with its request, since the identified unsafe condition has been corrected on all airplanes that would have been affected by the NPRM and on all ACUs in the affected range of S/Ns. Those affected parts are ACUs having part number 1159SCL501-1 and S/Ns 355 through 400 inclusive. The unsafe condition identified in the NPRM was caused by the installation of incorrect capacitors in the affected ACUs only. Since that NPRM addresses a quality control issue limited to a range of S/Ns, we find that the MARPA's statements regarding PMA equivalent parts are not relevant to that particular NPRM.

We have one correction regarding MARPA's comments on our practice of IBR and referencing propriety service information; we are required to provide a copy of any relevant service information to the Director of the Federal Register for publication of a final rule, not an NPRM. We are currently reviewing our practice of referencing proprietary service information. Once we have thoroughly examined all aspects of this issue, and have made a final determination, we will consider whether our current practice needs to be revised.

FAA's Conclusions

Upon further consideration, we have determined that the actions that would have been required by the NPRM have already been accomplished on all affected airplanes, and that the identified unsafe condition has been corrected on all affected ACUs. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2005-23249, Directorate Identifier 2005-NM-219-AD, which was published in the Federal Register on December 9, 2005 (70 FR 73173).

Issued in Renton, Washington, on March 31, 2006.
Ali Bahrami,
Manager, Transport Airplane Directorate, Aircraft Certification Service.

[FR Doc. E6-5253 Filed 4-10-06; 8:45 am]

BILLING CODE 4910-13-P